Proclamation 7474 of September 28, 2001

Gold Star Mother's Day, 2001

By the President of the United States of America

A Proclamation

Since its inception, this Nation has relied upon courageous young men and women to fight willingly for our country's ideals. Time and again, these men and women have secured America's liberty and prosperity. In defense of freedom and the values Americans hold sacred, many have paid the ultimate sacrifice. Over the course of the last 226 years, more than 1 million American mothers have endured the loss of a son or daughter in service to our Nation.

In the aftermath of World War I, President Woodrow Wilson first used the term “Gold Star Mother.” It signified not only the remembrance of a young life sacrificed in service to America, but the pride, dignity, and devotion of one who had first given life to that heroic young American. Since 1928, Gold Star Mothers have sustained themselves through their profound sorrow by lovingly serving others. From civic education and community service, to the care of veterans and those in need, the Gold Star Mothers promote patriotism, serve their country, and perpetuate the memories of their lost loved ones. Today, the Nation's Gold Star Mothers still stand as symbols of purpose, perseverance, and grace in the face of personal tragedy. Each year, the Nation remembers their sacrifice by honoring the Gold Star Mothers for their steadfast commitment to the legacy of their fallen children and their devotion to the United States of America.

The Congress, by Senate Joint Resolution 115 of June 23, 1936 (49 Stat. 1895), has designated the last Sunday in September as Gold Star Mother's Day and has authorized and requested the President to issue a proclamation in observance of this day.

NOW, THEREFORE, I, GEORGE W. BUSH, President of the United States of America, do hereby proclaim Sunday, September 30, 2001, as Gold Star Mother's Day. I call upon all Government officials to display the United States flag over Government buildings on this solemn day. I also encourage the American people to display the flag and to hold appropriate meetings in their homes, places of worship, or other suitable places as a public expression of the sympathy and respect that our Nation holds for our Gold Star Mothers.

IN WITNESS WHEREOF, I have hereunto set my hand this twenty-eighth day of September, in the year of our Lord two thousand one, and of the Independence of the United States of America the two hundred and twenty-sixth.

B

[FR Doc. 01-24916

Filed 10-2-01; 8:45 am]

Billing code 3195-01-P